DEPARTMENT OF AGRICULTURE

Forest Service

Missouri River Resource Advisory Committee

AGENCY: Forest Service, USDA.

ACTION: Notice of meeting.

SUMMARY: The Missouri River Resource Advisory Committee will meet in Helena, Montana. The committee is authorized under the Secure Rural Schools and Community Self-Determination Act (Pub. L 110-343) (the Act) and operates in compliance with the Federal Advisory Committee Act. The purpose of the committee is to improve collaborative relationships and to provide advice and recommendations to the Forest Service concerning projects and funding consistent with the title II of the Act. The meeting is open to the public. The purpose of the meeting is to approve previous meeting notes; review, vote and recommend projects for title II funding; and address any questions or comments from the public.

DATES: The meeting will be held Monday, September 17, 2012 at 6 p.m.

ADDRESSES: The meeting will be held in the Elkhorn/Tizer meeting room at the Helena National Forest Supervisor's Office at 2880 Skyway Drive, Helena, MT 59602. VTC will be available; members of the public can attend the meeting via VTC at their local Forest Service office.

Written comments may be submitted as described under Supplementary Information. All comments, including names and addresses when provided, are placed in the record and are available for public inspection and copying. The public may inspect comments received at the Helena National Forest office. Please call ahead to 406-495-3747 to facilitate entry into the building to view comments.

FOR FURTHER INFORMATION CONTACT: Kathy Bushnell, Forest Public Affairs Officer/DFO, Helena National Forest, 406-495-3747, kbushnell@fs.fed.us.

Individuals who use telecommunication devices for the deaf (TDD) may call the Federal Information Relay Service (FIRS) at 1-800-877-8339 between 8:00 a.m. and 8:00 p.m., Eastern Standard Time, Monday through Friday. Requests for reasonable accomodation for access to the facility or procedings may be made by contacting the person listed For Further Information.

SUPPLEMENTARY INFORMATION: The following business will be conducted: approve previous meeting notes; review, vote and recommend projects for Title II funding; and address any questions or comments from the public. Anyone who would like to bring related matters to the attention of the committee may file written statements with the committee staff before or after the meeting. The agenda will include time for people to make oral statements of three minutes or less. A summary of the meeting will be posted at www.fs.fed.us/r1/helena/ within 21 days of the meeting.

Dated: August 2, 2012.
Kathy Bushnell,
Forest Public Affairs Officer/DFO.

[FR Doc. 2012-19384 Filed 8-10-12; 8:45 am]

BILLING CODE 3410-11-P